DEPARTMENT OF COMMERCE

National Oceanic and Atmospheric Administration

Proposed Information Collection; Comment Request; California Recreational Groundfish Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 26, 2013.

ADDRESSES: Direct all written comments to Jennifer Jessup, Departmental Paperwork Clearance Office, Department of Commerce, Room 6616, 14th and Constitution Avenue NW., Washington, DC 20230 (or via the Internet at JJessup@doc.gov).

FOR FURTHER INFORMATION CONTACT: Requests for additional information or copies of the information collection instrument and instructions should be directed to Rosemary Kosaka, (831) 420-3988 or Rosemary.Kosaka@noaa.gov.

SUPPLEMENTARY INFORMATION:

I. Abstract

The National Marine Fisheries Service (NMFS) plans to collect data to increase the agency's understanding of California saltwater angler preferences relative to Pacific groundfish. Pacific groundfish caught in California's recreational fishery include about 17 species of rockfish, as well as lingcod, cabezon, and California scorpionfish. The number and diversity of species caught in this fishery poses a regulatory challenge for State and Federal fisheries managers. Information to be collected pertains to anglers' recreational saltwater fishing activities in California (including groundfish); their attitudes and preferences regarding particular groundfish species and groundfish regulations; and angler demographics. The data collected will provide NMFS, as well as state agency partners such as the California Department of Fish and Wildlife (CDFW), with information useful for understanding current groundfish fishing behavior and possible responses to potential regulatory changes.

II. Method of Collection

A random sample of recreational anglers who target groundfish in California will be asked to complete a voluntary mail-based survey questionnaire.

III. Data

OMB Control Number: None.

Form Number: None.

Type of Review: Regular submission (request for a new information collection).

Affected Public: Individuals or households.

Estimated Number of Respondents: 1,500.

Estimated Time per Response: 25 minutes.

Estimated Total Annual Burden Hours: 625.

Estimated Total Annual Cost to Public: $0.

IV. Request for Comments

Comment are invited regarding: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 20, 2013.
Gwellnar Banks,
Management Analyst, Office of the Chief Information Officer.

[FR Doc. 2013-15276 Filed 6-25-13; 8:45 am]

BILLING CODE 3510-22-P